DEPARTMENT OF EDUCATION

Applications for New Awards; Gaining Early Awareness and Readiness for Undergraduate Programs (State Grants)

AGENCY: Office of Postsecondary Education, Department of Education.

ACTION: Notice; correction.

SUMMARY: On June 7, 2018, we published in the Federal Register a notice inviting applications for the fiscal year (FY) 2018 Gaining Early Awareness and Readiness for Undergraduate Programs State Grant Competition (GEAR UP State NIA). This notice revises information provided in Section II of the GEAR UP State NIA under Award Information. All other requirements and conditions stated in the GEAR UP State NIA remain the same.

DATES: The correction is applicable June 19, 2018.

FOR FURTHER INFORMATION CONTACT: Karmon Simms-Coates, U.S. Department of Education, 400 Maryland Avenue SW, Room 278-54, Washington, DC 20202-6200. Telephone: (202) 453-7917. Email: karmon.simms-coates@ed.gov.

If you use a telecommunications device for the deaf (TDD) or a text telephone (TTY), call the Federal Relay Service (FRS), toll free, at 1-800-877-8339.

SUPPLEMENTARY INFORMATION:

On June 7, 2018, we published in the Federal Register the GEAR UP State NIA (83 FR 26445), inviting applications for new awards for the State Grants GEAR UP program. This notice revises: (a) The estimated funding available for new GEAR UP State awards; (b) the estimated range of awards; (c) the estimated average size of awards; (d) the maximum amount of funding a State applicant can receive for a single budget period of 12 months; and (e) the estimated number of awards. All other requirements and conditions stated in the GEAR UP State NIA remain the same.

Correction

In FR Doc. 2018-12291, in the Federal Register of June 7, 2018, we make the following revisions:

(a) On page 26448, in the middle column, in the last sentence of the first paragraph in the section entitled “Estimated Available Funds”, we remove the number “$54,833,000” and replace it with the number “$64,833,000”.

(b) On page 26448, in the middle column, after the words “Estimated Range of Awards”, we remove the numbers “$2,500,000-$3,500,000” and replace them with the numbers “$2,500,000-$5,000,000”.

(c) On page 26448, in the middle column, after the words “Estimated Average Size of Awards”, we remove the number “$3,000,000” and replace it with the number “$4,250,000”.

(d) On page 26448, in the middle column, in the first sentence of the section entitled “Maximum Award”, we remove the number “$3,500,000” and replace it with the number “$5,000,000”.

(e) On page 26448, in the middle column, after the words “Estimated Number of Awards”, we remove the number “18” and replace it with the number “15”.

Program Authority: 20 U.S.C. 1070a-21-1070a-28.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations via the Federal Digital System at www.gpo.gov/fdsys. At this site you can view this document, as well as all other documents of this Department published in the Federal Register, in text or Portable Document Format (PDF). To use PDF you must have Adobe Acrobat Reader, which is available free at the site.

You also may access documents of the Department published in the Federal Register by using the article search feature at www.federalregister.gov. Specifically, through the advanced search feature at this site, you can limit your search to documents published by the Department.

Dated: June 14, 2018.
Frank T. Brogan,
Principal Deputy Assistant Secretary and Delegated the Duties of the Assistant Secretary, Office of Planning, Evaluation and Policy Development, Delegated the Duties of the Assistant Secretary, Office of Postsecondary Education.

[FR Doc. 2018-13151 Filed 6-18-18; 8:45 am]

BILLING CODE 4000-01-P